DEPARTMENT OF HOMELAND SECURITY

Federal Emergency Management Agency

[Docket ID FEMA-2015-0001; Internal Agency Docket No. FEMA-B-1551]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: November 18, 2015.
Roy E. Wright,
Deputy Associate Administrator for Insurance and Mitigation, Department of Homeland Security, Federal Emergency Management Agency.

State and county | Location and case No. | Chief executive officer of community | Community map repository | Online location of letter of map revision | Effective date of modification | Community No.
Illinois:
Cook | Village of Alsip (15-05-5016P) | The Honorable Patrick E. Kitching, Village President, Village of Alsip, 4500 West 123rd Street, Alsip, IL 60803 | Village Office, 4500 West 123rd Street, Alsip, IL 60803 | http://www.msc.fema.gov/lomc. | Jan. 8, 2016 | 170055
McHenry | Village of Johnsburg (15-05-6182X) | The Honorable Edwin P. Hettermann, Village President, Village of Johnsburg, 1515 Channel Beach Avenue, Johnsburg, IL 60051 | Village Hall, 1515 West Channel Beach Avenue, Johnsburg, IL 60051 | http://www.msc.fema.gov/lomc. | Feb. 4, 2016 | 170486
Peoria | City of Peoria (15-05-2741P) | The Honorable Jim Ardis, Mayor, City of Peoria, 419 Fulton Street, Suite 401, Peoria, IL 61602 | Public Works Department, 3505 North Dries Lane, Peoria, IL 61604 | http://www.msc.fema.gov/lomc. | Jan. 27, 2016 | 170536
Peoria | Unincorporated areas of Peoria County (15-05-2741P) | The Honorable Thomas O'Neill, Chairman, Peoria County Board, County Courthouse, Room 502, 324 Main Street, Peoria, IL 61602 | County Courthouse, 324 Main Street, Peoria, IL 61602 | http://www.msc.fema.gov/lomc. | Jan. 27, 2016 | 170533
Michigan: Wayne | City of Romulus (15-05-1538P) | The Honorable LeRoy Burcroff, Mayor, City of Romulus, 11111 Wayne Road, Romulus, MI 48174 | 11111 Wayne Road, Romulus, MI 48174 | http://www.msc.fema.gov/lomc. | Jan. 8, 2016 | 260381
Missouri: Jackson | City of Kansas City (15-07-1558P) | The Honorable Sly James, Mayor, City of Kansas City, 414 E 12th Street, 29th Floor, Kansas City, MO 64106 | 414 E. 12th Street, 25th Floor, c/o City Clerk Marilyn Sanders, Kansas City, MO 64106 | http://www.msc.fema.gov/lomc. | Jan. 15, 2016 | 290173
Ohio:
Hocking | City of Logan (15-05-6391X) | The Honorable J. Martin Irvine, Mayor, City of Logan, 10 South Mulberry Street, Logan, OH 43138 | 10 S. Mulberry Street, Logan, OH 43138 | http://www.msc.fema.gov/lomc. | Jan. 9, 2016 | 390274
Hocking | Unincorporated areas of Hocking County (15-05-6391X) | Mr. Larry Dicken, County Commissioner, Hocking County, 1 East Main Street, Logan, OH 43138 | 93 W. Hunter Street, Logan, OH 43138 | http://www.msc.fema.gov/lomc. | Jan. 9, 2016 | 390272
Oregon:
Lane | City of Creswell (15-10-1143P) | The Honorable Dave Stram, Mayor, City of Creswell, P.O. Box 276, Creswell, OR 97426 | City Hall, 13 South 1st Street, Creswell, OR 97426 | http://www.msc.fema.gov/lomc. | Jan. 15, 2016 | 410121
Lane | Unincorporated areas of Lane County (15-10-1143P) | The Honorable Faye Stewart, Commissioner, East Lane County, Lane County Public Service Building, 125 East 8th Street, Eugene, OR 97401 | Lane County Planning Department, Public Service Building, 125 East 8th Street, Eugene, OR 97401 | http://www.msc.fema.gov/lomc. | Jan. 15, 2016 | 415591
Texas:
Tarrant | City of Fort Worth (15-06-2612P) | The Honorable Betsy Price, Mayor, City of Fort Worth, 1000 Throckmorton Street, Fort Worth, TX 76102 | Department of Transportation and Public Works, 1000 Throckmorton Street, Fort Worth, TX 76102 | http://www.msc.fema.gov/lomc. | Jan. 8, 2016 | 480596
Tarrant | City of Haltom City (15-06-2612P) | The Honorable David Averitt, Mayor, City of Haltom City, 5024 Broadway Avenue, Haltom City, TX 76117 | City Hall, 5024 Broadway Avenue, Haltom City, TX 76117 | http://www.msc.fema.gov/lomc. | Jan. 8, 2016 | 480599
Virginia: Roanoke | City of Roanoke (14-03-3119P) | The Honorable David A. Bowers, Mayor, City of Roanoke, 215 Church Avenue Southwest Room 452, Roanoke, VA 24011 | 215 Church Avenue, Roanoke, VA 24011 | http://www.msc.fema.gov/lomc. | Dec. 30, 2015 | 510130
Wisconsin: Calumet | Unincorporated areas of Calumet County (15-05-1737P) | Mr. Todd Romenesko, Calumet County Administrator, 206 Court Street, Chilton, WI 53014 | City Hall, 206 Court Street, Chilton, WI 53014 | http://www.msc.fema.gov/lomc. | Jan. 8, 2016 | 550035

[FR Doc. 2015-31030 Filed 12-8-15; 8:45 am]

BILLING CODE 9110-12-P